DEPARTMENT OF TRANSPORTATION

Federal Aviation Administration

14 CFR Part 71

[Airspace Docket No. 00-AGL-03]

Modification of Class D Airspace; Rapid City, SD; Modification of Class D Airspace; Rapid City Ellsworth AFB, SD; and Modification of Class E Airspace; Rapid City, SD

AGENCY: Federal Aviation Administration (FAA), DOT.

ACTION: Final rule.

SUMMARY: This action modifies Class D airspace at Rapid City, SD, modifies Class D airspace at Ellsworth AFB, SD, and modifies Class E airspace at Rapid City, SD. An Area Navigation (RNAV) Standard Instrument Approach Procedure (SIAP) to Runway (Rwy) 32 has been developed for Rapid City Regional Airport. Controlled airspace extending upward from the surface of the earth is needed to contain aircraft executing this approach. This action increases the radius of the existing Class D and Class E airspace for Rapid City Regional Airport, and modifies the legal description of the Class D airspace for Ellsworth AFB to include the formentioned modification.

EFFECTIVE DATE: 0901 UTC, August 10, 2000.

FOR FURTHER INFORMATION CONTACT: Denis C. Burke, Air Traffic Division, Airspace Branch, AGL-520, Federal Aviation Administration, 2300 East Devon Avenue, Des Plaines, Illinois 60018, telephone (847) 294-7568.

SUPPLEMENTARY INFORMATION:

History

On Friday, February 18, 2000, the FAA proposed to amend 14 CFR part 71 to modify Class D airspace and Class E airspace at Rapid City, SD, and modify Class D airspace at Rapid City, Ellsworth AFB, SD (65 FR 8321). The proposal was to modify controlled airspace extending upward from the surface to contain Instrument Flight Rules (IFR) operations in controlled airspace during portions of the terminal operation and while transiting between the enroute and terminal environments. Interested parties were invited to participate in this rulemaking proceeding by submitting written comments on the proposal to the FAA. No comments objecting to the proposal were received. Class D airspace designations are published in paragraph 5000, Class E airspace areas designated as extensions to a Class D airspace area are published in paragraph 6004, and Class E airspace designated as surface areas are published in paragraph 6002, of FAA Order 7400.9G dated September 1, 1999, and effective September 16, 1999, which is incorporated by reference in 14 CFR 71.1. The Class D airspace designations and Class E airspace designations listed in this document will be published subsequently in the Order.

The Rule

This amendment to 14 CFR part 71 modifies Class D airspace and Class E airspace at Rapid City, SD, and Modifies Class D airspace at Rapid City, Ellsworth AFB, SD, to accommodate aircraft executing instrument flight procedures into and out Rapid City Regional Airport and Ellsworth AFB. The area will be depicted on appropriate aeronautical charts.

The FAA has determined that this regulation only involves an established body of technical regulations for which frequent and routine amendments are necessary to keep them operationally current. Therefore, this regulation—(1) Is not a “significant regulatory action” under Executive Order 12866; is not a significant rule” under DOT Regulatory Policies and Procedures (44 FR 11034; February 26, 1979); and (3) does not warrant preparation of a Regulatory Evaluation as the anticipated impact is so minimal. Since this is a routine matter that will only affect air traffic procedures and air navigation, it is certified that this rule will not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR part 71 as follows:

PART 71—DESIGNATION OF CLASS A, CLASS B, CLASS C, CLASS D, AND CLASS E AIRSPACE AREAS; AIRWAYS; ROUTES; AND REPORTING POINTS

1. The authority citation for part 71 continues to read as follows:

Authority: 49 U.S.C. 106(g), 40103, 40113, 40120; E.O. 10854, 24 FR 95665, 3 CFR, 1959-1963 comp., p. 389.

§ 71.1 [Amended]

2. The incorporation by reference in 14 CFR 71.1 of the Federal Aviation Administration Order 7400.9G, Airspace Designations and Reporting Pints, dated September 1, 1999, and effective September 16, 1999, is amended as follows:

* * * * *

Paragraph 5000 Class D Airspace.

* * * * *

AGL SD D Rapid City, SD [Revised]

Rapid City Regional Airport, SD

(Lat. 44°02′43″ N., long. 103°03′27″ W.)

Ellsworth AFB, SD

(Lat. 44°08′42″ N., long. 103°06′13″ W.)

That airspace extending upward from the surface to an including 5,7000 feet MSL within an 4.4-mile radius of the Rapid City Regional Airport, excluding the portion north of a line between the intersection of the Rapid City Regional Airport 4.4-mile radius and the Ellsworth AFB, SC, 4.7-mile radius. This Class D airspace area is effective during the specific dates and times established in advance by Notice to Airmen. The effective date and time will thereafter be continuously published in the Airport/Facility Directory.

* * * * *

AGL SD D Rapid City Ellsworth AFB, SC [Revised]

Rapid City Ellsworth AFB, SD

(Lat. 44°08′42″ N., long. 103°06′13″ W.)

Rapid City Regional Airport, SD

(Lat. 44°02′43″ N., long. 103°03′27″ W.)

Ellsworth AFB TACAN

(Lat. 44°08′20″ N., long. 103°06′06″ W.)

That airspace extending upward from the surface to and including 5,800 feet MSL within an 4.7-mile radius of Ellsworth AFB, and within 2.2 miles each side of the Ellsworth AFB TACAN 322° radial, extending from the 4.7-mile radius to 6.1 miles northwest of the TACAN, excluding that airspace south of a line between the intersection of the Ellsworth AFB 4.7-mile radius and the Rapid City Regional Airport 4.4-mile radius.

* * * * *

Paragraph 6003 Class E airspace areas desigatned as an extension to a Class D airspace area.

* * * * *

AGL SD E4 Rapid City, SD [Revised]

Rapid City Regional Airport, SD

(Lat. 44°02′43″ N., long. 103°03′27″ W.)

Rapid City VORTAC

(Lat. 43°58′34″ N., long. 103°00′44″ W.)

That airspace extending upward from the surface within 2.6 miles each side of the Rapid City VORTAC 155°/335° radials extending from the 4.4-mile radius of the Rapid City Regional Airport to 7.0 miles southeast of the VORTAC, excluding that airspace within the Rapid City, SD, Class D airspace area. This Class E airspace area is effective during the specific dates and times established in advance by Notice to Airmen. The effective date and time will thereafter be continuously published in the Airport/Facility Directory.

* * * * *

Paragraph 6002 Class E airspace designated as a surface area.

* * * * *

AGL SD E2 Rapid City, SD [Revised]

Rapid City Regional Airport, SD

(Lat. 44°02′43″ N., long. 103°03′27″ W.)

Ellsworth AFB, SD

(Lat. 44°08′42″ N., long. 103°06′13″ W.)

Rapid City VORTAC

(Lat. 43°58′34″ N., long. 103°00′44″ W.)

Within a 4.4-mile radius of the Rapid City Regional Airport, excluding the portion north of a line between the intersection of the Rapid City Regional Airport 4.4-mile radius and the Ellsworth AFB 4.7-mile radius, and that airspace extending upward from the surface within 2.6 miles each side of the Rapid City VORTAC 155°/335° radials extending from the 4.4-mile radius of the Rapid City Regional Airport to 7.0 miles southeast of the VORTAC, excluding that airspace within the Rapid City, SD, Class D airspace area. This Class E airspace area is effective during the specific dates and times established in advance by Notice to Airmen. The effective date and time will thereafter be continuously published in the Airport/Facility Directory.

* * * * *

Issued in Des Plaines, Illinois, on April 26, 2000.
Christopher R. Blum,
Manager, Air Traffic Division.

[FR Doc. 00-12164 Filed 5-12-00; 8:45 am]

BILLING CODE 4910-13-M